DEPARTMENT OF TRANSPORTATION

Federal Aviation Administration

14 CFR Part 71

[Airspace Docket No. 00-ANM-28]

Modification of Class D and Class E Airspace, Bellingham, WA

AGENCY: Federal Aviation Administration (FAA), DOT.

ACTION: Final rule.

SUMMARY: This action modifies the Class D airspace at Bellingham, WA, by amending the effective hours to coincide with the Bellingham Airport Traffic Control Tower (ATCT) hours of operation. This action also modifies the Class E airspace extension at Bellingham International Airport when the Bellingham ATCT is closed. The effect of this action clarifies when two-way radio communication with Bellingham ATCT is required and provides adequate controlled airspace when the Bellingham ATCT is closed.

EFFECTIVE DATE: 0901 UTC, November 1, 2001.

FOR FURTHER INFORMATION CONTACT: Brian Durham, ANM-520.7, Federal Aviation Administration, Docket No. 00-ANM-28, 1601 Lind Avenue SW., Renton, Washington, 98055-4056; telephone number: (425) 227-2527.

SUPPLEMENTARY INFORMATION:

History

On June 18, 2001, the FAA proposed to amend Title 14 Code of Federal Regulations, part 71 (14 CFR part 71) by modifying Class D and Class E airspace at Bellingham, WA, in order to clarify when two-way communications with the Bellingham ATCT is required and to provide adequate controlled airspace for IFR operations when the ATCT is closed (66 FR 32781). Interested parties were invited to participate in the rulemaking proceeding by submitting written comments on the proposal. A comment was received from the FAA, AVN-500, National Aeronautical Charting Office. A revision to the legal description, as written in the Notice for Proposed Rule Making (NPRM), was required to amend a small discrepancy in the airport coordinates. This is considered an insignificant modification to the airspace description as the corrections did not change the dimension of the proposed airspace action described in the NPRM.

The Rule

This amendment to Title 14 Code of Federal Regulations, part 71 (14 CFR part 71) modifies Class D and Class E airspace at Bellingham, WA, in order to clarify when two-way communications with the Bellingham ATCT is required and to provide adequate controlled airspace for IFR operations. This action modifies the Class D airspace area at Bellingham, WA, by amending the effective hours to coincide with the Bellingham ATCT hours of operation. This action modifies the Class E airspace extension at Bellingham International Airport when the Bellingham ATCT is closed. The FAA establishes Class D and Class E airspace where necessary to protect aircraft transitioning between the terminal and en route environments, and to provide local VFR sequencing by ATCT personnel. The effect of this proposal is designed to provide safe and efficient use of the navigable airspace and to promote safe flight operations under Instrument Flight Rules (IFR) and VFR at Bellingham International Airport and between the terminal and en route transition stages.

The area will be depicted on aeronautical charts for pilot reference. The coordinates for this airspace docket are based on North American Datum 83. Class D airspace areas designated for an airport, are published in Paragraph 5000, and Class E airspace areas designated as surface areas, are published in Paragraph 6004 of FAA Order 7400.9H dated September 1, 2000, and effective September 16, 2000, which is incorporated by reference in 14 CFR 71.1. The Class D and E airspace designation listed in this document will be published subsequently in the Order.

The FAA has determined that this regulation only involves an established body of technical regulations for which frequent and routine amendments are necessary to keep them operationally current. It, therefore, (1) is not a “significant regulatory action” under Executive Order 12866; (2) is not a “significant rule” under DOT Regulatory Policies and Procedures (44 FR 11034; February 26, 1979); and (3) does not warrant preparation of a Regulatory Evaluation as the anticipated impact is so minimal. Since this is a routine matter that will only affect air traffic procedures and air navigation, it is certified that this rule, will not have a significant economic impact on a substantial number of small entities under the criteria of the Regulatory Flexibility Act.

List of Subjects in 14 CFR Part 71

Airspace, Incorporation by reference, Navigation (air).

Adoption of the Amendment

In consideration of the foregoing, the Federal Aviation Administration amends 14 CFR part 71 as follows:

PART 71—DESIGNATION OF CLASS A, CLASS B, CLASS C, CLASS D, AND CLASS E AIRSPACE AREAS; AIRWAYS; ROUTES; AND REPORTING POINTS

1. The authority citation for 14 CFR part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of the Federal Aviation Administration Order 7400.9H, Airspace Designations and Reporting Points, dated September 1, 2000, and effective September 16, 2000, is amended as follows:

Paragraph 5000 General.

* * * * *

ANM WA D Bellingham, WA [Revised]

Bellingham International Airport

(Lat. 48°47′34″ N., long. 122°32′15″ W.)

That airspace extending upward from the surface to and including 2,700 feet MSL within a 4-mile radius of Bellingham International Airport. This Class D airspace is effective during specific dates and times established in advance by a Notice to Airmen. The effective date and time will thereafter be continuously published in the Airport/Facility Directory.

* * * * *

Paragraph 6004 Class E airspace consisting of airspace extending upward from the surface designated as an extension of Class D airspace.

* * * * *

ANM WA E4 Bellingham, WA [Revised]

Bellingham International Airport

(Lat. 48°47′34″ N., long. 122°32′15″ W.)

Whatcom VORTAC

(Lat. 48°56′43″ N., long. 122°34′45″ W.)

That airspace extending upward from the surface within the 1.8 miles each side of the Whatcom VORTAC 169° radial extending north from the 4-mile radius of the Bellingham International Airport to 2.7 miles south of the VORTAC. This Class E airspace is effective during specific dates and times established in advance by a Notice to Airmen. The effective date and time will thereafter be continuously published in the Airport/Facility Directory.

* * * * *

Issued in Seattle, Washington, on August 15, 2001.
Daniel A. Boyle,
Assistant Manager, Air Traffic Division, Northwest Mountain Region.

[FR Doc. 01-21821 Filed 8-28-01; 8:45 am]

BILLING CODE 4910-13-M